ENVIRONMENTAL PROTECTION AGENCY

40 CFR Part 52

[R03-OAR-2004-DC-0007; FRL-7909-8]

Approval and Promulgation of Air Quality Implementation Plans; District of Columbia; VOC Emission Standards for AIM Coatings

Correction

In rule document 05-9312 beginning on page 24959 in the issue of Thursday, May 12, 2005, make the following correction:

§52.470 [Corrected]

On pages 24969 and 24970, in §52.470, in the table, in the column “EPA approval date”, “5/21/05” should read “5/12/05” throughout the column.

[FR Doc. C5-9312 Filed 5-18-05; 8:45 am]

BILLING CODE 1505-01-D

REGULATORY INFORMATION SERVICE CENTER

Introduction to the Unified Agenda of Federal Regulatory and Deregulatory Actions

Correction

In proposed rule document 05-8796 beginning on page 26555 in the issue of Monday, May 16, 2005, make the following correction:

On page 26559, in the second column, following the signature block, the document line should read “[FR Doc. 8796 Filed 05-13-05; 8:45 am]”.

[FR Doc. C5-8796 Filed 5-18-05; 8:45 am]

BILLING CODE 1505-01-D

DEPARTMENT OF TRANSPORTATION

Federal Aviation Administration

14 CFR Part 39

[Docket No. FAA-2005-21139; Directorate Identifier 2003-NM-196-AD]

RIN 2120-AA64

Airworthiness Directives; Bombardier Model CL600-1A11 (CL-600), Model CL-600-2A12 (CL-601), and Model CL-600-2B16 (CL-601-3A, CL-601-3R, and CL-604) Series Airplanes

Correction

In proposed rule document 05-9186 beginning on page 24331 in the issue of Monday, May 9, 2005, make the following corrections:

1. On page 24332, in the table Messier-Dowty Service Bulletins, under the column Landing gear component, the seventh entry should read “MLG shock strut pin.”

2. On the same page, in the same table, under ÿ7Ethe column Corresponding Bombardier service bulletin(s), the seventh entry should read “601-0546.”

§39.13 [Corrected]

3. On page 24334, in §39.13, in Table 2ÿ7E, under the column Messier-Dowty service bulletin, the last entry should read “M-DT SB7300-32-16, dated July 12, 2001.”.

4. On the same page, in the same section, in ÿ7Ethe same table, under the column Model, in the eighth entry remove the word “retraction.”

[FR Doc. C5-9186 Filed 5-18-05; 8:45 am]

BILLING CODE 1505-01-D

DEPARTMENT OF TRANSPORTATION

Federal Aviation Administration

14 CFR Part 39

[Docket No. FAA-2005-20356; Directorate Identifier 2004-NM-115-AD]

RIN 2120-AA64

Airworthiness Directives; Boeing Model 737-100, -200, -200C, -300, -400, and -500 Series Airplanes

Correction

In proposed rule document 05-2834 beginning on page 7693 in the issue of Tuesday, February 15, 2005, make the following corrections:

§39.13 [Corrected]

1. On page 7695, in the second column, in §39.13, after amendatory instruction 2, in the next line, “FAA-20356” should read “FAA-2005-20356.”

2. On the same page, in the third column, in the same section, under the heading Optional Terminating Action, in the first line, “(1)” should read “(i).”

[FR Doc. C5-2834 Filed 5-18-05; 8:45 am]

BILLING CODE 1505-01-D